FEDERAL EMERGENCY MANAGEMENT AGENCY

[FEMA-1329-DR]

New Mexico; Amendment No. 2 to Notice of a Major Disaster Declaration

AGENCY: Federal Emergency Management Agency (FEMA).

ACTION: Notice.

SUMMARY: This is a notice of the Presidential declaration of a major disaster for the State of New Mexico (FEMA-1329-DR), dated May 13, 2000, and related determinations.

EFFECTIVE DATE: May 19, 2000.

FOR FURTHER INFORMATION CONTACT: Madge Dale, Response and Recovery Directorate, Federal Emergency Management Agency, Washington, DC 20472, (202) 646-3772.

SUPPLEMENTARY INFORMATION: The notice of a major disaster for the State of New Mexico is hereby amended to include Public Assistance for the following area among those areas determined to have been adversely affected by the catastrophe declared a major disaster by the President in his declaration of May 13, 2000. Act (42 U.S.C. 5121 et seq.), as follows:

Los Alamos County for Public Assistance (previously designated for Individual Assistance)

The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.
Lacy E. Suiter,
Executive Associate Director, Response and Recovery Directorate.

[FR Doc. 00-13324 Filed 5-25-00; 8:45 am]

BILLING CODE 6718-02-P